DEPARTMENT OF AGRICULTURE

Agricultural Research Service

Notice of Settlement Pursuant to the Comprehensive Environmental Response, Compensation, and Liability Act

AGENCY: Agricultural Research Service.

ACTION: Notice of settlement.

SUMMARY: Notice is hereby given that a proposed Settlement Agreement in the matter of: USDA Cotton Research Station, Shafter, Kern County, California, Kern County Agt. #1098-2000, was entered into by the United States Department of Agriculture, Agricultural Research Service (USDA), and the County of Kern, a political subdivision of the State of California (County), pursuant to Section 122(h)(1) of the Comprehensive Environmental Response, Compensation, and Liability Act (CERCLA), 42 U.S.C. 6922(h)(1), and the Federal Tort Claims Act (FTCA), 28 U.S.C. 1346(b), 2671, et seq. The Settlement Agreement resolves any claims that the United States may have against the County under section 7 of CERCLA, 42 U.S.C. 9607, for response costs incurred at the former USDA Cotton Research Station, located on the Shafter Experimental Farm (Site), near Shafter, California. The Settlement Agreement also resolves any claims that the County may have against the United States under CERCLA and the FTCA for damages resulting from contamination at the Site. Finally, the Settlement Agreement authorizes USDA to conduct a proposed response action by implementing a Closure Plan at Drywell No. 1 at the Site.

The proposed Settlement Agreement provides that the United States will covenant not to sue, subject to certain reservation of rights, the County pursuant to section 107(a) of CERCLA, 42 U.S.C. 9607(a), to recover response costs relating to the Site. The proposed Settlement Agreement also provides that the County will release the United States from liability relating to the Site, including under CERCLA, FTCA, or State law.

USDA will receive, for a period of thirty (30) days from the date of this publication, comments relating to the proposed settlement. In accordance with section 122(i)(3) of CERCLA, 42 U.S.C. 9622(i)(3), USDA may modify or withdraw its consent to this Agreement if comments received disclose facts or considerations which indicate that this Agreement is inappropriate, improper, or inadequate. Comments should be addressed to Mr. Michael P. Blanchette at the United States Department of Agriculture, Agricultural Research Service, Safety, Health, and Environmental Management Branch, 5601 Sunnyside Avenue, Mail Stop 5127, Beltsville, Maryland 20705-5127, and should refer to In The Matter of: USDA Cotton Research Station, Shafter, Kern County, California, Kern County Agt. #1098-2000.

The proposed Settlement Agreement may be examined at the office of Mr. Alvin Humphrey, Area Safety and Health Manager, Pacific West Area, Agricultural Research Service, USDA, 800 Buchanan Street, Albany, California 94710. A copy may also be requested by mail from Mr. Humphrey.

Dated: February 12, 2001.
Edward B. Knipling,
Associate Administrator, Agricultural Research Service.

[FR Doc. 01-6204 Filed 3-12-01; 8:45 am]

BILLING CODE 3410-03-U